DEPARTMENT OF TRANSPORTATION

Federal Transit Administration

FY 2016 Competitive Research Funding Opportunity: Safety Research and Demonstration (SRD) Program

AGENCY: Federal Transit Administration (FTA), DOT.

ACTION: Notice of Funding Opportunity (NOFO) And Solicitation Of Project Proposals.

SUMMARY: The Federal Transit Administration (FTA) announces the availability of $7,000,000 in Fiscal Year (FY) 2016 Public Transportation Innovation funds to demonstrate and evaluate innovative technologies and safer designs to improve public transportation safety.

FTA is seeking to fund cooperative agreements to engage in demonstration projects focused in the following two thematic areas: collision avoidance and mitigation and transit worker safety protection.

An eligible lead applicant under this notice must be an existing FTA grant recipient and eligible project partners and sub-recipients under this program may include, but are not limited to, providers of public transportation; State and local governmental entities; departments, agencies, and instrumentalities of the Government, including Federal laboratories; private or non-profit organizations; institutions of higher education; and technical and community colleges. This notice solicits competitive proposals addressing priorities established by FTA for these research areas, provides instructions for submitting proposals, and describes criteria FTA will use to identify meritorious proposals for funding, and the process to apply for funding.

This announcement is also available on the FTA Web site at: https://www.transit.dot.gov/grants.

A synopsis of this funding opportunity will be posted in the FIND module of the government-wide electronic grants Web site at http://www.grants.gov. The funding Opportunity ID is FTA-2016-007-TRI-SRD and the Catalog of Federal Domestic Asssitance (CFDA) number for Section 5312 funded program is 20.514.

DATES: Complete proposals are due by 11:59 p.m. EDT on October 14, 2016. All proposals must be submitted electronically through the Grants.gov “APPLY” function. Prospective applicants should initiate the process by registering on the Grants.gov Web site promptly to ensure completion of the application process before the submission deadline. Instructions for applying can be found on FTA's Web site at https://www.transit.dot.gov/grants and in the “FIND” module of Grants.gov. Mail and fax submissions will not be accepted.

FOR FURTHER INFORMATION CONTACT: Please send any questions on this notice to roywei-shun.chen@dot.gov or contact Roy Chen, Safety Research Program Manager, Office of Research, Demonstration, and Innovation (TRI), (202) 366-0462. A TDD is available for individuals who are deaf or hard of hearing at 1-800-877-8339.

SUPPLEMENTARY INFORMATION:

Table of Contents

A. Program Description

B. Federal Award Information

C. Eligibility Information

1. Eligible Applicants

2. Eligible Projects

a. Collison Avoidance and Mitigation

b. Transit Worker Safety Protection

3. Funding Amount and Cost Matching

4. Other Requirements

a. Evaluation and Data Requirements

b. Participation in Information Exchange

D. Application and Submission Information

1. Address and Form of Application Submission

2. Proposal Content

3. Unique Entity Identifier and System for Award Management (SAM)

4. Submission Dates and Times

5. Funding Restrictions

E. Application Review

1. Selection Criteria

2. Review and Selection Process

F. Federal Award Administration

1. Federal Award Notice

2. Administrative and National Policy Requirements

a. Pre-Award Authority

b. Grant Requirements

c. Planning

d. Standard Assurances

e. Reporting

G. Federal Awarding Agency Contacts

A. Program Description

Section 5312 (b) of Title 49, United States Code, as amended by the Fixing America's Surface Transportation (FAST) Act, Pub. L. 114-94, authorizes FTA to fund research, development, demonstrations, and deployment projects to improve public transportation. The Safety Research and Demonstration Program (SRD Program) is a competitive demonstration opportunity under FTA's research emphasis area of safety and in support of the U.S. Department of Transportation's Safety goals that provides technical and financial support for transit agencies to pursue innovative approaches to eliminate or mitigate known safety hazards in public transportation via demonstration of technologies and safer designs.

The goals of FTA's safety research, in general, are to:

• Advance the development of materials, technologies and safer designs to reduce the number of collisions, fatalities and mitigate the severity of transit-related injuries.

• Increase the knowledge about the interface between machinery and people—both transit workers and passengers—and reduce the potential for safety-related incidents.

• Improve the safety culture at transit agencies, as well as support stakeholder coordination and outreach.

• Support the development of transit safety standards, protocols and best practices.

The primary objectives of the SRD program are to assist transit agencies to:

• Explore advanced technologies to prevent transit vehicle collisions.

• Enhance safety of transit services by incorporating safer design elements.

• Evaluate cost-effectiveness and practicability of potential solutions.

As a result of a safety data analysis, research literature review, engagements with stakeholders on topics of “Transit Worker Assaults” and “Bus Operator Visibility” and meeting the statutory requirements under Section 5329 of Title 49, United States Code, FTA is targeting the funding of this solicitation to two specific thematic areas: (a) Collision avoidance and mitigation and, (b) transit worker safety protection.

To ensure any proposed demonstration project address the needs of transit agencies, FTA is requiring that project submittal teams partner with at least one transit agency. FTA will assess the strength of these partnerships in its evaluation of applications.

As envisioned, the SRD program will provide financial and technical assistance for transit agencies to pursue cutting edge technologies and innovative approaches, and more importantly, the opportunity to assess the practicality and effectiveness of these solutions in improving safety and potentially influencing transit industry guidance and standards.

B. Federal Award Information

Section 5312 of Title 49, United States Code, as amended by the FAST Act, authorizes FTA to fund “Public Transportation Innovation”. Through this program, FTA may make grants, or enter into contracts, cooperative agreements and other agreements for research, development, demonstration and deployment projects, and evaluation of research and technology of national significance to public transportation that the Secretary of Transportation determines will improve public transportation. A total of $7,000,000 in FY 2016 funds is available for award under this announcement. FTA intends to fund as many meritorious projects as possible under this announcement. FTA recognizes that the funding made available under this announcement may be insufficient to fund all meritorious projects. FTA may, at its discretion, select an application for award of less than the originally-proposed amount if doing so is expected to result in a more advantageous portfolio of projects. Consequently, proposals should provide a detailed budget proposal for the fully-realized project as well as a reduced scope and budget if the project can be scaled down and still achieve useful results. Applicants should specify and justify the minimum award amount needed to achieve effective project results.

FTA anticipates minimum grant awards of $750,000 and maximum grant awards of $2,000,000. Only proposals from eligible recipients (see C.1) for eligible activities will be considered for funding. Funds made available under this program may be used to fund operating expenses and preventive maintenance directly associated with the demonstration of the proposed project, but may not be used to fund such expenses for equipment not essential to the project.

FTA may, at its discretion, provide additional funds for selections made under this announcement or for additional meritorious proposals, if additional funding is made available for Section 5312 of Title 49, United States Code. FTA will announce final selections on the Web site and may also announce selections in the Federal Register.

FTA seeks projects that can be implemented/start within six months of project award, and contains a minimum of six months of data collection and evaluation effort. The maximum period of performance allowed for the work covered by the award should not exceed thirty-six (36) months from the date of award.

C. Eligibility Information

1. Eligible Applicants

To be eligible for funding under this NOFO, applicants must demonstrate that the proposed project is supported by a lead applicant in partnership with one or more strategic partner(s) with a substantial interest and involvement in the project. Eligible lead applicants under this notice must be existing FTA grant recipients. An application must clearly identify the eligible lead applicant and all project partners on the team.

Eligible project partners and sub-recipients under this program may include, but are not limited to:

A. Public Transportation Systems;

B. Private for profit and not for profit organizations, including technology system suppliers and bus manufacturers;

C. Operators of transportation, such as employee shuttle services or airport connector services or university transportation systems;

D. State or local government entities; and,

E. Other organizations that may contribute to the success of the project team including consultants, research consortia or not-for-profit industry organizations, and institutions of higher education.

The lead applicant must have the ability to carry out the proposed agreement and procurements with team members in compliance with its respective State and local laws. FTA may determine that any named team member in the proposal is a key party and make any award conditional upon the participation of that key party. A key party is essential to the project as approved by FTA and is therefore eligible for a noncompetitive award by the lead entity to provide the goods or services described in the application. A key party's participation on a selected project may not later be substituted without FTA's approval. For-profit companies may participate on teams; however, recipients and subrecipients of funding under this program may not charge a fee or profit from the FTA research program funding.

In instances where a provider(s) of public transportation is a partner and not the lead proposer, a detailed statement regarding the role of the provider(s) in the conduct of the project is required. Also required is a signed letter from the public transportation service provider's General Manager of his/her commitment to the project and the understanding of the agency's roles/responsibilities in the project.

2. Eligible Projects

Proposers may submit one proposal for each project but not one proposal containing multiple projects. Proposers are allowed to submit multiple proposals, but each eligible project proposals should focus on one of the following two thematic areas: (a) Collision avoidance and mitigation and, (b) transit worker safety protection.

Project proposals must include a research and/or synthesis phase, development phase and a demonstration phase. All phases are critical to project selection. Revenue-service, full-scale demonstrations are preferred where practicable. However, in cases where a full-scale demonstration would be impractical, detailed plans for non-revenue service or limited demonstration of the innovative technology or designs will be considered. Basic research or studies that do not result in any demonstration of the potential for commercialization or broad deployment within the scope of the project will not be considered for funding.

For the purpose of this solicitation, a “bus” is defined as a rubber-tired, low-floor transit passenger vehicle, 35 feet or longer in length, operating on fixed routes and schedules over roadway and is self-powered.

a. Collision Avoidance and Mitigation

The advent of advanced electronics, computing power, and communication technologies has allowed the introduction of new safety remedies that can assist drivers in avoiding collisions. Some of the active collision avoidance and mitigation technologies are still in the developmental stage but many of them are becoming mainstream in the personal vehicle market. In this solicitation, FTA would like to evaluate the safety performance of such systems for the transit bus application, which has a different operating environment and challenges than personal vehicles. FTA wants to work with the industry to demonstrate the most promising technologies and facilitate their introduction and deployment in the transit industry. Candidate active collision avoidance and mitigation technologies for demonstration may include, but not be limited to, advanced braking system; blind spot warning; pedestrian collision warning; 360 surround view; driver alert warning; and lane departure warning.

In addition to active collision avoidance and mitigation technologies, FTA is soliciting proposals to mitigate transit bus operator blind spots through vehicle design changes, in order to improve operator visibility and potentially reduce collisions. FTA believes that there are technical merits in pursuing different approaches that do not add technological complexity to the vehicle, or increase the human-machine interface and driver's workload. Potential design modifications for demonstration may include, but not limited to, seating distance between the driver and the A-pillars, thickness and orientation of the A-pillars, manufacturing process and material selection, angle of the windshield, and mirror location, type and size.

The “passive approach” proposals need to quantify the blind spots of an existing bus model to be modified, establish a quantitative blind spot reduction goal, and outline the proposed design modifications to achieve the goal. The proposed designs should strive to meet existing Federal Motor Vehicle Safety Standards (FMVSS), FTA, Society of Automotive Engineers (SAE) and American Public Transportation Association (APTA) transit vehicle standards and guidelines, and document any deviations from existing standards and guidelines. The proposal should quantify the blind spots using SAE J1050 or other applicable measurement standards of the driver's field of view (examples: SAE J264, SAE J941, SAE J985 or others that are appropriate). The proposed design should target a height and weight range from a 5th percentile female to a 95th percentile male operator.

The prototype buses are not required to be tested or certified at FTA's Altoona Bus Testing Program, if procured using this research funding (Section 5312). However, FTA is providing the option to have the prototype buses tested at FTA's Bus Testing Program, if desired by the project teams, before demonstrating the prototypes at the transit agencies. The purpose of the demonstration phase is to go beyond laboratory settings (quantification of the % blind spots improvement, computer aided modeling, final element analysis or others) and focus on how the design changes perform in an operating environment. The demonstration phase should capture bus operators' feedback for maintainability, reliability, driver satisfaction, human factors/driver ergonomics issues and also document any deviations from any relevant Federal standards or industry guidelines.

b. Transit Worker Safety Protection

The FTA's Transit Advisory Committee for Safety (TRACS) issued a report on “Preventing and Mitigating Transit Worker Assaults in the Bus and Rail Transit Industry” in July, 2015. The report states that in 2013, 28 transit workers died due to violence on the job, and the vast majority of assaults against transit workers are non-fatal. FTA believes that any form of violence against transit workers poses a serious threat on the physical safety and emotional well-being of transit workers and also endangers the safety of passengers and the public. FTA has also launched a “National Online Dialogue on Transit Worker Assault” to engage the industry. The purpose of the dialogue is to establish a forum and collect inputs from the stakeholders on this important issue. FTA expects the selection of research demonstration projects under this thematic area to be responsive to transit stakeholder's input on the subject.

Acknowledging the variety of control strategies that could be used by transit agencies and that no single solution fits every agency, for the purpose of this solicitation, FTA is seeking proposals that identify, develop, and demonstrate an on-board vehicle protective system that prevent and mitigate the risk of transit bus operator assaults. Candidate technologies and designs elements of the on-board protective infrastructure for demonstration may include, but not limited to, protective barriers, video surveillance systems, emergency communication systems, automatic vehicle location systems. The protective barrier should be designed for height and weight range from a 5th percentile female to a 95th percentile male operator, open/close at the discretion of the operator, address possible visual hazards from reflections and reduced visibility of the mirrors and heating and ventilation comfort.

The purpose of the demonstration is to determine the most effective technologies and designs to prevent and mitigate driver assaults. This includes documenting the maintenance and operational cost, effectiveness of the system, driver satisfaction and human factor issues associated with the technologies, proposed design elements and performance specifications, as well.

Another group of transit employees exposed to higher safety risks are rail transit wayside workers. FTA is seeking proposals to adopt technological solutions, as a secondary safety system, which will automatically alert wayside workers of approaching trains and automatically alert train operators when approaching areas with workers on or near the tracks. The proposal must clearly define the uniqueness of the system and how it differs, and improves upon, existing commercial systems.

The proposed system shall be designed with, but not limited to, features that would enhance safety by warning work crews of on-coming trains, notifying train operators when approaching a work zone or workers on the tracks, informing wayside workers when conditions change in the field (e.g., trains running in a reverse direction, cancellation or changes in track rights) and monitoring the right-of-way location of the work crew (e.g., track inspectors, maintainers and other roving crews) in real-time from an Operations Control Center. Also, the proposed system should be designed to work with both revenue and non-revenue equipment, with ease of service, ease of maintenance, high reliability and minimal adverse impacts to rail system performance.

3. Cost Sharing or Matching

The federal share of project costs under this program is limited to eighty percent (80%). Proposers may seek a lower Federal contribution. The applicant must provide the local share of the net project cost in cash, or in-kind, and must document in its application the source of the local match. Regardless of minimum share requirements, cost sharing is an evaluation criterion and proposals with higher cost share than the minimum twenty percent (20%) share requirement will be considered more favorably. Cash and other high-quality match will be considered more favorably than in-kind cost matching, though all are acceptable. Eligible sources of local match are detailed in FTA Research Circular 6100.1E. (available at https://www.transit.dot.gov/regulations-and-guidance/fta-circulars/final-circulars).

4. Other Requirements

a. Evaluation and Data Requirements

In order to achieve a comprehensive understanding of the impacts and implications of each proposed SRD demonstration, FTA, or its designated independent evaluator, requires access to project data. Projects should include a data capture component that allows for the reliable and consistent collection of information relevant to gauging the impact and outcomes of the demonstration.

At any time during the period of performance, the project team may be requested to coordinate data collection activities in order to provide interim information under the requirements of this award. A project team may be asked to provide the data directly to FTA or to a designated independent evaluator. This information, if requested, will be used to conduct program evaluations during the execution of the project and after it has been completed. FTA is required by 49 U.S.C. Section 5312 to evaluate every demonstration project within two years after award.

All information submitted as part of or in support of the SRD project shall use publicly available data or data that can be made public and methodologies that are accepted by industry practice and standards, to the extent possible. If the submission includes information the applicant considers to be trade secret or confidential commercial or financial information, the applicant should do the following: (1) Note on the front cover that the submission “Contains Confidential Business Information (CBI)”; (2) mark each affected page “CBI”; and (3) highlight or otherwise denote the CBI portions. FTA protects such information from disclosure to the extent allowed under applicable law. In the event that FTA receives a Freedom of Information Act (FOIA) request for the information, FTA will follow the procedures described in the U.S. DOT FOIA regulations at 49 CFR 7.17. Only information that is ultimately determined to be confidential under that procedure will be exempt from disclosure under FOIA. Should FTA receive an order from a court of competent jurisdiction ordering the release of the information, FTA will provide applicant timely notice of such order to allow the applicant the opportunity to challenge such an order. FTA will not challenge a court order on behalf of applicant.

b. Participation in Information Exchange

SRD demonstration Project teams may be asked to participate in safety related information exchange meetings, conferences, webinars, or outreach events where SRD demonstration teams share information with the transit industry and stakeholders on the progress and results of their project activities.

D. Application and Submission Information

1. Address and Form of Application Submission

Project proposals must be submitted electronically through Grants.gov (www.grants.gov) by October 14, 2016. Mail and fax submissions will not be accepted. A complete proposal submission will consist of at least two files: (1) The SF 424 Mandatory form (downloaded from Grants.gov) and (2) the Applicant and Proposal Profile supplemental form for the “Safety Research and Demonstration Program” (supplemental form) found on the FTA Web site at https://www.transit.dot.gov/research-innovation/safety-research-and-demonstration-program. The supplemental profile provides guidance and a consistent format for proposers to respond to the criteria outlined in this NOFO. Once completed, the supplemental profile must be placed in the attachments section of the SF 424 Mandatory form. Proposers must use the supplemental profile designated for the “Safety Research and Demonstration” and attach it to their submission in Grants.gov to successfully complete the application process. A proposal submission may contain additional supporting documentation as attachments. Supporting documentation could include but is not limited to support letters, pictures, digitized drawings, and spreadsheets.

Within 24 to 48 hours after submitting an electronic application, the applicant should receive 3 email messages from Grants.gov: (1) Confirmation of successful transmission to Grants.gov, (2) confirmation of successful validation by Grants.gov, and (3) confirmation of successful validation by FTA. If confirmations of successful validation are not received and a notice of failed validation or incomplete materials is received, the applicant must address the reason for the failed validation, as described in the email notice, and resubmit before the submission deadline. If making a resubmission for any reason, include all original attachments regardless of which attachments were updated and check the box on the supplemental form indicating this is a resubmission.

Complete instructions on the application process can be found at https://www.transit.dot.gov/grants. FTA strongly encourages proposers to submit their applications at least 72 hours prior to the due date to allow time to receive the validation messages and to correct any problems that may have caused a rejection notification. FTA will not accept submissions after the stated submission deadline for any reason. Grants.gov scheduled maintenance and outage times are announced on Grants.gov. Deadlines will not be extended due to scheduled maintenance or outages.

Proposers are encouraged to begin the process of registration on the Grants.gov Web site well in advance of the submission deadline. Instructions on the Grants.gov registration process are listed in Appendix A. Registration is a multi-step process, which may take 3 to 5 days, but could take as much as several weeks to complete before an application can be submitted if the applicant needs to obtain certain identifying numbers external to Grants.gov (for example, applying for an Employer Identification Number). Registered proposers may still be required to take steps to keep their registration up to date before submissions can be made successfully: (1) Registration in the System for Award Management (SAM) is renewed annually and (2) persons making submissions on behalf of the Authorized Organization Representative (AOR) must be authorized in Grants.gov by the AOR to make submissions.

Proposers may submit one proposal for each project but not one proposal containing multiple projects. Information such as proposer name, Federal amount requested, local match amount, description of areas served, etc. may be requested in varying degrees of detail on both the SF 424 Form and Supplemental Form. Proposers must fill in all fields unless stated otherwise on the forms. Proposers should use both the “CHECK PACKAGE FOR ERRORS” and the “VALIDATE FORM” validation buttons on both forms to check all required fields on the forms, and ensure that the federal and local amounts specified are consistent. The information described in Sections “E” through “H” below MUST be included and/or addressed on the SF 424 Form and other supplemental forms for all requests for the “Safety Research and Demonstration Program” funding.

2. Proposal Content

At a minimum, every proposal must include an SF-424 form, with the Applicant and a Proposal Profile supplemental form attached. The Applicant and Proposal Profile supplemental form for SRD Program can be found on the FTA Web site at https://www.transit.dot.gov/research-innovation/safety-research-and-demonstration-program.

All applicants are required to provide detailed information on the Applicant and Proposal Profile supplemental form, including:

(a) State the project title, the overall goals of the project, and describe the project scope, including anticipated deliverables.

(b) Discuss the current state of practice, challenges and how the proposed project will address those needs.

(c) Details on whether the proposed demonstration is a new effort or a continuation of a prior research and degree of improvement over current technologies and practices.

(d) Address each evaluation criterion separately, demonstrating how the project responds to each criterion as described in Section E.

(e) Provide a line-item budget for the total project with enough detail to indicate the various key components of the project. As FTA may elect to fund only part of some project proposals, the budget should provide for the minimum amount necessary to fund specific project components of independent utility. If the project can be scaled, provide a scaling plan describing the minimum funding necessary for a feasible project and the impacts of a reduced funding level.

(f) Provide the Federal amount requested and document the matching funds, including amount and source of the match (may include local or private sector financial participation in the project). Provide support documentation, including financial statements, bond-ratings, and documents supporting the commitment of non-federal funding to the project, or a timeframe upon which those commitments would be made.

(g) A project time-line outlining steps from project implementation through completion, including significant milestones and the roles of the responsible team members.

(h) The proposed location(s) of the research and demonstration, the type of public transportation service where the technology or design modifications will be demonstrated.

(i) The technology(ies) and design modification to be used in this demonstration and explanation of the principle of operation for the public transportation service, type of transit vehicle (example: Bus, articulated bus, over-the-road bus, heavy rail, light rail, etc.), vehicle manufacturer and model. Including, the number of transit vehicles involved in the demonstration.

(j) A description of any exceptions or waivers to FTA requirements or policies necessary to successfully implement the proposed project. FTA is not inclined to grant deviations from its requirements, but may consider deviations if the applicant can show a compelling benefit. Example: Buy America requirement, Deferred Local Share, Letter of No prejudice, etc.

(k) Potential issues (technical or other) that may impact the success of the project.

(l) Address whether other Federal funds have been sought for the project.

(m) Provide Congressional district information for the project's place of performance.

3. Unique Entity Identifier and System for Award Management (SAM) Registration in Brief

Registration can take as little as 3-5 business days, but since there could be unexpected steps or delays (for example, if you need to obtain an EIN), FTA recommends allowing ample time for completion of all steps.

STEP 1: Obtain DUNS Number: Same day. If requested by phone (1-866-705-5711) DUNS is provided immediately. If your organization does not have one, you will need to go to the Dun & Bradstreet Web site at http://fedgov.dnb.com/webform to obtain the number.

STEP 2: Register with SAM: Three to five business days or up to two weeks. If you already have a TIN, your SAM registration will take 3-5 business days to process. If you are applying for an EIN please allow up to 2 weeks. Ensure that your organization is registered with the System for Award Management (SAM) at System for Award Management (SAM). If your organization is not, an authorizing official of your organization must register.

STEP 3: Username & Password: Same day. Complete your AOR (Authorized Organization Representative) profile on Grants.gov and create your username and password. You will need to use your organization's DUNS Number to complete this step. https://apply07.grants.gov/apply/OrcRegister.

STEP 4: AOR Authorization: Same day (depending on responsiveness of your E-Biz POC). The E-Business Point of Contact (E-Biz POC) at your organization must login to Grants.gov to confirm you as an Authorized Organization Representative (AOR). Please note that there can be more than one AOR for your organization. In some cases the E-Biz POC is also the AOR for an organization.

STEP 5: TRACK AOR STATUS: At any time, you can track your AOR status by logging in with your username and password. Login as an Applicant (enter your username & password you obtained in Step 3) under applicant profile.

4. Submission Dates and Times

Project proposals must be submitted electronically through http://www.GRANTS.GOV by 11:59 p.m. EDT on October 14, 2016.

5. Funding Restrictions

Funds under this NOFO cannot be used to reimburse projects for otherwise eligible expenses incurred prior to FTA award of a Grant Agreement or Cooperative Agreement unless FTA has issued a “Letter of No Prejudice” for the project before the expenses are incurred.

The SRD Program is a research and development effort and as such FTA Circular 6100.1E rules will apply in administering the program (available at https://www.transit.dot.gov/regulations-and-guidance/fta-circulars/final-circulars).

E. Application Review

1. Evaluation Criteria

Projects will be evaluated by FTA according to the following six evaluation criteria described in this section. Each proposer is encouraged to demonstrate the responsiveness of a project to all the criteria shown below with the most relevant information that the proposer can provide.

The FTA will assess the extent to which a proposal addresses the following criteria:

(a) Project Innovation and Impact

(i) Effectiveness of the project in achieving and demonstrating the specific objectives of the SRD Program.

(ii) Demonstration of benefits in addressing the needs of the transit agency and industry.

(iii) Degree of technological improvement over current and existing technologies or vehicle design.

(b) Project Approach

(i) Quality of the project approach, including interface design, existing partnerships and collaboration strategies in meeting the objectives of SRD program.

(ii) Level of cost share by project partners to support the proposed project (in-kind or cash).

(iii) Details on whether the proposed demonstration is a new effort or a continuation of a related research or demonstration project.

(c) National Applicability

(i) Degree to which the project could be replicated by other transit agencies regionally or nationally.

(ii) Ability to evaluate technologies and designs in a wide variety of conditions and locales.

(d) Team Capacity and Commitment

(i) Timeliness of the proposed project schedule, and reasonableness of the proposed milestones.

(ii) Availability of existing resources (physical facilities, human resources, partnerships) to carry out the project.

(iii) Demonstrated capacity and experience of the partners to carry out the demonstration project of similar size and/or scope.

(e) Commercialization or Dissemination Plan

(i) Demonstrates an effective, timely, and realistic plan for moving the results of the project into the transit marketplace.

(ii) Description of how the project team plans to disseminate the result of the project to the transit industry.

(f) Return on Investment

(i) Cost-effectiveness of the proposed project.

(ii) Anticipated measurable safety benefits and/or potential impact on industry guidance and standards.

(iii) The anticipated intangible benefits, such as making public transportation service more appealing to potential passengers, providing educational opportunities, or reducing negative externalities such as traffic congestion or others.

2. Review and Selection Process

A technical evaluation panel comprised of FTA staffs and possibly other DOT staffs will review project proposals against the evaluation criteria listed above. Members of the technical evaluation panel reserve the right to evaluate proposals they receive and seek clarification from any proposer about any ambiguous statement in the proposal. FTA may also request additional documentation or information to be considered during the evaluation process. After a thorough evaluation of all valid proposals, the technical evaluation panel will provide project recommendations to the FTA Administrator. The FTA Administrator will determine the final list of project selections, and the amount of funding for each project. Geographic diversity, diversity of project type, and the applicant's receipt of other Federal funding may be considered in FTA's award decisions.

F. Federal Award Administration

The FTA intends to fund multiple meritorious projects to support executing eligible project activities. To enhance the value of the portfolio of research and demonstration projects to be implemented, FTA reserves the right to request an adjustment of the project scope and budget of any proposal selected for funding. Such adjustments shall not constitute a material alteration of any aspect of the proposal that influenced the proposal evaluation or decision to fund the project.

1. Federal Award Notice

Subsequent to announcement by the Federal Transit Administration of the final project selections posted on the FTA Web site, FTA may publish a list of the selected projects, including Federal dollar amounts and recipients.

2. Administrative and National Policy Requirements

(a) Pre-Award Authority

The FTA will issue specific guidance to recipients regarding pre-award authority at the time of selection. The FTA does not provide pre-award authority for competitive funds until projects are selected and even then there are Federal requirements that must be met before costs are incurred. Preparation of proposals is not an eligible pre-award expense.

b. Grant Requirements

Successful proposals will be awarded through FTA's Transit Award Management System (TrAMS) as Cooperative Agreements.

c. Planning

The FTA encourages proposers to engage the appropriate State Departments of Transportation, Regional Transportation Planning Organizations, or Metropolitan Planning Organizations in areas likely to be served by the project funds made available under this programs.

d. Standard Assurances

The applicant assures that it will comply with all applicable Federal statutes, regulations, executive orders, FTA circulars, and other Federal administrative requirements in carrying out any project supported by the FTA grant. The applicant acknowledges that it is under a continuing obligation to comply with the terms and conditions of the grant agreement issued for its project with FTA. The applicant understands that Federal laws, regulations, policies, and administrative practices might be modified from time to time and may affect the implementation of the project. The applicant agrees that the most recent Federal requirements will apply to the project, unless FTA issues a written determination otherwise. The applicant must submit the Certifications and Assurances before receiving a grant if it does not have current certifications on file.

e. Reporting

Post-award reporting requirements include submission of Federal Financial Reports and Milestone Reports in FTA's electronic grants management system on a quarterly basis for all projects.

G. Federal Awarding Agency Contacts

For further information concerning this notice please contact the FTA SRD Program manager Roy Chen at royweishun.chen@dot.gov or 202-366-0462. A TDD is available for individuals who are deaf or hard of hearing at 1-800-877-8339.

Carolyn Flowers,
Acting Administrator.

[FR Doc. 2016-19391 Filed 8-12-16; 8:45 am]

BILLING CODE P